DEPARTMENT OF HEALTH AND HUMAN SERVICES

National Institutes of Health

National Institute for Environment Health Sciences, Amended Notice of Meeting

Notice is hereby given of a change in the meeting of the National Advisory Environmental Health Sciences Council, September 13-14, 2022, Virtual Meeting, which was published in the Federal Register on August 09, 2022, V 87 No. 152, Pages 48491-48492, FR Doc No. 2022-17034.

Meeting is being amended to change the closed session and open session on September 13, 2022 to:

Name of Committee: National Advisory Environmental Health Sciences Council.

Date: September 13-14, 2022.

Closed: September 13, 2022, 10:00 a.m. to 11:30 a.m.

Agenda: To review and evaluate grant applications.

Place: Division of Extramural Research and Training, National Institute of Environmental Health Sciences, Durham, NC 27709 (Virtual Meeting).

Open: September 13, 2022, 11:45 a.m. to 5:15 p.m.

Agenda: Discussion of program policies and issues/Council Discussion.

Place: Division of Extramural Research and Training, National Institute of Environmental Health Sciences, Durham, NC 27709, https://www.niehs.nih.gov/news/webcasts/ (Virtual Meeting).

Dated: August 31, 2022.
David W. Freeman,
Program Analyst, Office of Federal Advisory Committee Policy.

[FR Doc. 2022-19213 Filed 9-6-22; 8:45 am]

BILLING CODE 4140-01-P